DEPARTMENT OF TRANSPORTATION

Federal Motor Carrier Safety Administration

[Docket No. FMCSA-2006-25652]

Agency Information Collection Activities; Request for Comments; Notice of Intent To Survey Motor Carriers Operating Small Passenger-Carrying Commercial Motor Vehicles

AGENCY: Federal Motor Carrier Safety Administration (FMCSA), DOT.

ACTION: Notice and request for comments.

SUMMARY: The FMCSA invites comments about its plan to request the Office of Management and Budget's (OMB) approval of a new information collection (IC). FMCSA intends to sponsor this new information collection by use of a research contractor to conduct a survey of motor carriers who operate small passenger-carrying commercial motor vehicles (CMVs). The data collected would assist FMCSA with outreach initiatives to these motor carriers of passengers, some of which will be brought within the scope of FMCSA safety regulation by recent statutory changes. This notice is required by the Paperwork Reduction Act of 1995.

DATES: Comments must be submitted on or before February 6, 2007.

ADDRESSES: All comments should reference Docket Number FMCSA-2006-25652. You may mail or hand deliver comments to the U.S. Department of Transportation, Dockets Management Facility, Room PL-401, 400 Seventh Street, SW., Washington, DC 20590; telefax comments to (202) 493-2251; or submit electronically at http://dms.dot.gov. You may examine and copy all comments received at the above address between 9 a.m. and 5 p.m., Monday through Friday, except Federal holidays. If you desire your comment to be acknowledged, you must include a self-addressed stamped envelope or postcard or, if you submit your comments electronically, you may print the acknowledgment.

FOR FURTHER INFORMATION CONTACT: Mr. Peter Chandler, Federal Motor Carrier Safety Administration, Office of Enforcement and Compliance, Commercial Passenger Carrier Safety Division, Washington, DC 20590, phone (202) 366-5763, fax (202) 366-3621, e-mail peter.chandler@dot.gov. Office hours are from 8 a.m. to 4 p.m., ET, Monday through Friday, except Federal holidays.

SUPPLEMENTARY INFORMATION: On August 12, 2003, FMCSA published a final rule entitled, “Safety Requirements for Operators of Small Passenger-Carrying Commercial Motor Vehicles Used in Interstate Commerce,” to require motor carriers operating CMVs, designed or used to transport between 9 and 15 passengers (including the driver), in interstate commerce, to comply with parts 391 through 396 of the Federal Motor Carrier Safety Regulations (FMCSRs) when they are directly compensated for such services, and the vehicle is operated beyond a 75 air-mile radius from the driver's normal work-reporting location (see 68 FR 47860). As a result of the 2003 rule, these motor carriers are now subject to the same safety requirements as motor coach operators, except for the commercial driver's license (CDL), and controlled substances and alcohol testing regulations. Affected motor carriers were required to be in compliance with such regulations by December 10, 2003 (see 68 FR 61246). The 2003 rule implemented section 212 of the Motor Carrier Safety Improvement Act of 1999 (MCSIA) [Public Law 106-159, 113 Stat. 1748, 1766 (Dec. 9, 1999)].

Section 4136 of the Safe, Accountable, Flexible, Efficient Transportation Equity Act: A Legacy For Users (SAFETEA-LU) [Public Law 109-59, 119 Stat. 1144, 1745 (Aug. 10, 2005)] directed FMCSA to remove the 75 air-mile radius standard. This congressional mandate would result in a greater number of motor carriers that operate small passenger-carrying CMVs being subject to the FMCSRs. To effectively inform this segment of the motor carrier passenger industry of the regulatory requirements that they will be subject to, and to assist the agency in administering an effective educational outreach program to this entire industry segment, FMCSA intends to conduct a survey to obtain information about all of these motor passenger carrier operations.

Because certain motor carriers that operate small passenger-carrying CMVs will have new regulatory requirements as a result of the section 4136 provision, FMCSA wants to learn about the safety and/or regulatory compliance challenges of this industry segment. There is no motor carrier industry association that is comprised mostly of commercial companies that primarily operate between 9-15 passenger-carrying commercial motor vehicles. This makes obtaining information about this industry segment more difficult and necessitates the assistance of a researcher to obtain information needed by FMCSA to effectively provide outreach to these passenger carriers. FMCSA will request a research contractor to obtain information about motor carriers with small passenger-carrying CMV operations. The research contractor will collect information through approximately 50 telephone interviews and 8 site visits at places of business. A copy of the telephone survey instrument has been placed in the docket for review and comments. Information obtained from the study will provide insight into the common safety and regulatory compliance challenges facing motor carriers with small passenger-carrying CMV operations. Such information will also be utilized by FMCSA to develop educational outreach initiatives for the affected industry segment. It is appropriate that FMCSA connect with and inform this segment of the motor carrier industry of its regulatory compliance responsibilities before implementing an enforcement program. Any information obtained will help identify specific areas of regulatory compliance that are problematic for this industry segment. In addition, the questions of the telephone survey instrument address safety issues that preliminary research shows are pertinent to motor carriers with small passenger-carrying CMV operations. Useful information about these safety issues could be included in outreach materials for the benefit of the industry. The survey will also obtain needed insight about how to best provide and distribute information to the affected industry segment.

Title: Survey of Motor Carriers with Small Passenger-Carrying CMV Operations.

Type of Information Collection Request: New one-time survey/information collection.

Respondents: For-hire motor carriers that operate between 9-15 passenger-carrying commercial motor vehicles in interstate commerce.

Number of Respondents: 50 motor carriers.

Estimated Average Burden per Response: The estimated average burden per response for each telephone survey is 30 minutes.

Estimated Total Annual Burden: The estimated total annual burden is 25 hours for the information collection based upon an acceptable level of statistical significance and a confidence interval of 13.6 percent.

Total Annual Burden: 25 hours [(50 responses × 30 minutes per response) / 60 minutes = 25 hours].

Frequency: This information collection will be a single, nonrecurring event.

Public Comments Invited

Interested parties are invited to send comments regarding any aspect of this information collection, including but not limited to: (1) The necessity and utility of the information collection for the proper performance of the functions of FMCSA and specifically the regulatory oversight of small passenger-carrying commercial motor vehicle operations; (2) the accuracy of the estimated burden; (3) ways to enhance the quality, utility, and clarity of the collected information; and (4) ways to minimize the collection burden without reducing the quality of the collected information. Comments submitted in response to this notice will be summarized and/or included in the request for OMB's clearance for this information collection. For access to the docket to read background documents or comments received, go to http://dms.dot.gov at any time or to Room PL-401 on the plaza level of the Nassif Building, 400 Seventh Street, SW., Washington, DC, between 9 a.m. and 5 p.m., Monday through Friday, except Federal holidays.

Issued on: November 28, 2006.
John H. Hill,
Administrator.

[FR Doc. E6-20830 Filed 12-7-06; 8:45 am]

BILLING CODE 4910-EX-P